DEPARTMENT OF JUSTICE

[Docket No. OLP 169]

Announcement of Department of Justice Portal for Guidance Documents

AGENCY: Department of Justice.

ACTION: Notice.

SUMMARY: The Department of Justice is providing public notice of the launch of its portal for guidance documents as directed by Executive Order 13891 “Promoting the Rule of Law Through Improved Agency Guidance Documents.”

DATES: The guidance portal is accessible by the public on the date of publication of this notice.

FOR FURTHER INFORMATION CONTACT: Robert Hinchman, Senior Counsel, Office of Legal Policy, U.S. Department of Justice, 950 Pennsylvania Avenue NW, Room 4252, Washington, DC 20530, phone (202) 514-8059.

SUPPLEMENTARY INFORMATION: Executive Order 13891 “Promoting the Rule of Law Through Improved Agency Guidance Documents” requires each agency to establish or maintain on its website a single, searchable, indexed database that contains or links to all guidance documents in effect from that agency or its components.

On October 31, 2019, the Office of Management and Budget (OMB) issued Memorandum M-20-02, titled: “Guidance Implementing Executive Order 13891, Titled `Promoting the Rule of Law Through Improved Agency Guidance Documents.' ” The memorandum requires Federal agencies to establish the database mandated by the Executive Order no later than February 28, 2020. In addition, the memorandum asks agencies to publish in the Federal Register an announcement of the existence of that guidance portal.

Accordingly, this notice announces that the Department of Justice has established its guidance portal at: https://www.justice.gov/guidance.

Guidance documents are not binding and lack the force and effect of law, unless expressly authorized by statute or expressly incorporated into a contract, grant, or cooperative agreement. Consistent with Executive Order 13891 and the Office of Management and Budget implementing memoranda, the Department will not cite, use, or rely on any guidance document that is not accessible through this guidance portal, or similar guidance portals for other Executive Branch departments and agencies, except to establish historical facts. To the extent any guidance document sets out voluntary standards (e.g., recommended practices), compliance with those standards is voluntary, and noncompliance will not result in enforcement action. Guidance documents may be rescinded or modified in the Department's complete discretion, consistent with applicable laws.

Dated: March 10, 2020.
Beth A. Williams,
Assistant Attorney General, Office of Legal Policy.

[FR Doc. 2020-05204 Filed 3-12-20; 8:45 am]

BILLING CODE 4410-BB-P